Title 3—

The President

Proclamation 8430 of October 2, 2009

National Arts and Humanities Month, 2009

By the President of the United States of America

A Proclamation

Throughout our Nation's history, the power of the arts and humanities to move people has built bridges and enriched lives, bringing individuals and communities together through the resonance of creative expression. It is the painter, the author, the musician, and the historian whose work inspires us to action, drives us to contemplation, stirs joy in our hearts, and calls upon us to consider our world anew. The arts and humanities contribute to the vibrancy of our society and the strength of our democracy, and during National Arts and Humanities Month, we recommit ourselves to ensuring all Americans can access and enjoy them.

Our Nation's cultural assets tell the story of America's diversity and reveal our common humanity. Countless American artists develop unique styles by infusing their work with cultural elements from across the country and the world, and in turn, have an impact on the global arts community. Through history and philosophy, we learn the heritage of fellow Americans and appreciate the arc of their narrative as an integral part of our own. Cultural exchanges, collaborative projects, and continuing education programs help us to share and preserve a mosaic of rich traditions and provide future generations with opportunities for artistic expression.

The arts and humanities also bring our economy untold benefits. Millions of Americans take part in the non-profit and for-profit arts industries. Cultural and arts activities not only contribute tens of billions of dollars to our economy, but also inspire innovation. In neighborhoods and communities across the Nation, the arts and humanities lie at the center of revitalization, inspiring creativity, ideas, and new hope in areas that have gone too long without it.

Every American deserves an opportunity to study, understand, and contribute to the arts and humanities. This must begin in our schools, where children may have their first and most important exposure to these disciplines. Working on their own masterpieces and finding inspiration in the work of others, young people are opened to new means of expression that sharpen their creative faculties. An education in music, dance, drama, design, and fine art reinforces skills in fields like math and science, and it can help students reach their full potential. In an ever-changing world, we must prepare our students with the knowledge, creative skills, and an ability to innovate so they can compete and succeed on a global stage.

As a people, we have an unlimited capacity for self-expression and personal interpretation. While we may not always agree with what we see or hear, it is our open-mindedness that commends the artistic struggle behind the creation and our curiosity that pursues its vision. This month, we honor this artistic spirit that lives and breathes within every American. Creativity and a thirst for understanding are the fuel that has fed our Nation's success for centuries, and they will continue to be well into our future.

NOW, THEREFORE, I, BARACK OBAMA, President of the United States of America, by virtue of the authority vested in me by the Constitution and the laws of the United States, do hereby proclaim October 2009 as National Arts and Humanities Month. I call upon the people of the United States to join together in observing this month with appropriate ceremonies, activities, and programs to celebrate the arts and humanities in America.

IN WITNESS WHEREOF, I have hereunto set my hand this second day of October, in the year of our Lord two thousand nine, and of the Independence of the United States of America the two hundred and thirty-fourth.

[FR Doc. E9-24409

Filed 10-7-09; 8:45 am]

Billing code 3195-W9-P